DEPARTMENT OF EDUCATION

Applications for New Awards; National Center on School Infrastructure

AGENCY: Office of Elementary and Secondary Education, Department of Education.

ACTION: Notice.

SUMMARY: The Department of Education (Department) is issuing a notice inviting applications for fiscal year (FY) 2023 for the National Center on School Infrastructure (NCSI), Assistance Listing Number 84.184R. This notice relates to the approved information collection under OMB control number 1894-0006.

DATES:

Applications Available: June 5, 2023.

Deadline for Transmittal of Applications: August 7, 2023.

Deadline for Intergovernmental Review: October 6, 2023.

Pre-Application Webinar Information: Information about a pre-application webinar will be available on the program website at: https://oese.ed.gov/offices/school-infrastructure-programs-sip/.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Staci Cummins, U.S. Department of Education, 400 Maryland Avenue SW, Washington, DC 20202-6450. Telephone: 202-987-1674. Email: oese.school.infrastructure@ed.gov.

If you are deaf, hard of hearing, or have a speech disability and wish to access telecommunications relay services, please dial 7-1-1.

SUPPLEMENTARY INFORMATION:

Full Text of Announcement

I. Funding Opportunity Description

Purpose of Program: The purpose of the NCSI program is to establish a national center on school infrastructure that will serve as a clearinghouse of resources for States and local educational agencies (LEAs) related to improving and developing safe, healthy, sustainable, and equitable public school infrastructure through public school infrastructure improvements, and provide technical assistance (TA) to Supporting America's School Infrastructure (SASI) grantees and high-need LEAs seeking to leverage available resources to improve public school facilities for all students.

Background:

Schools, especially those in high-need LEAs, face ongoing challenges in ensuring that their school facilities provide safe, healthy, sustainable, and equitable learning environments. Fifty million students and 6 million adults spend their days learning and working in public school buildings.¹ Public schools account for the second most expansive public State and local infrastructure in the country, after highways. Yet, a 2020 U.S. Government Accountability Office (GAO) report found that an estimated 54 percent of LEAs in the United States reported that they need to replace or update major systems in more than half of their buildings,² and the 2021 Report Card for America's Infrastructure rated the Nation's school buildings as a D-plus.³ In addition to necessary updates, the average public school building was 44 years old as of 2012, according to the most recent comprehensive dataset on public school facilities, the 2013 National Center on Education Statistics Condition of America's Public School Facilities.⁴

¹ https://nces.ed.gov/programs/coe/indicator/cga/public-school-enrollment.

² https://www.gao.gov/assets/gao-20-494.pdf.

³ https://infrastructurereportcard.org/wp-content/uploads/2020/12/National_IRC_2021-report.pdf.

⁴ https://nces.ed.gov/pubsearch/pubsinfo.asp?pubid=2014022.

LEAs, especially those in low-income neighborhoods, face challenges related to project financing, Federal and State grant application procedures, and understanding how to leverage available resources to improve school infrastructure. In making necessary infrastructure updates, LEAs face an estimated annual gap of $85 billion between the level of investment and level of need to maintain safe and up-to-date facilities, according to the 2021 State of Our Schools Report by the 21st Century School Fund.⁵ Relatedly, the 2021 State of our Schools Report indicates that most school facility financing is provided locally and almost half of States provide little to no funding to LEAs for school infrastructure. Eleven States provide no funding at all, and an additional 10 States provide between 1 and 9 percent of an LEA's costs for maintaining school infrastructure.⁶ Without State funding, LEAs rely on local property or sales tax revenue; schools in low-income communities do not have sufficient revenue to finance enough borrowing to address their accumulated deficiencies from aged infrastructure. In this way, schools in low-income communities are disproportionately impacted by inequitable funding systems across the country.

⁵ https://static1.squarespace.com/static/5a5ccab5bff20008734885eb/t/618aab5d79d53d3ef439097c/1636477824193/SOOS-IWBI2021-2_21CSF+print_final.pdf.

⁶ https://static1.squarespace.com/static/5a5ccab5bff20008734885eb/t/618aab5d79d53d3ef439097c/1636477824193/SOOS-IWBI2021-2_21CSF+print_final.pdf.

Despite decades of inequitable school funding systems and aging school infrastructure across the country, the COVID-19 pandemic illuminated the scope of the issue and the harm dilapidated school buildings have on our students and educators. In many public schools, the poor state of facilities hampered the return to in-person learning during the COVID-19 pandemic or led to lost instructional time when school ventilation systems were unable to maintain safe and healthy classroom conditions. Specifically, the GAO report found that an estimated 41 percent of school districts need to update or replace heating, ventilation, and air-conditioning (HVAC) systems in at least half of their schools, representing about 36,000 schools nationwide. If not addressed, HVAC-related problems, such as older systems that leak and damage flooring or ceiling tiles, can lead to indoor air quality problems and mold, aggravate asthma, and result in lost learning time.

The increase in extreme weather exacerbates these issues. For example, schools that do not have air-conditioning have had to adjust schedules to accommodate extreme heat or retrofit buildings with air-conditioning, requiring additional updates to piping and insulation to avoid air quality problems caused by moisture and condensation. Due to recent increases in extreme weather conditions, maintaining safe and healthy classroom conditions remains a challenge for schools across the United States, particularly in areas with higher proportions of students from “socially vulnerable groups,” according to GAO's 2022 study on disaster recovery.⁷ This GAO report also shows that school districts serving high proportions of children from vulnerable groups—including children who are from low-income backgrounds, children of color, English learners, and children with disabilities—are particularly susceptible to the adverse effects of disasters and may need more recovery assistance compared to school districts with less vulnerable student populations.

⁷ https://www.gao.gov/assets/gao-22-104606.pdf.

In addition, many States face challenges in building their own capacity to support LEAs in maintaining and improving school infrastructure. According to GAO's 2020 survey of the 50 States and District of Columbia, most States (38 of 49) either had not conducted or did not know if their State had conducted a State-level facilities condition assessment to determine school facilities' needs.⁸ States that had not conducted a statewide facilities condition assessment frequently said they do not assess school conditions because it is primarily the responsibility of LEAs, further compromising the ability of high-need LEAs to maintain safe, healthy, sustainable, and equitable learning environments.

⁸ https://www.gao.gov/products/gao-20-494.

Recent investments in school infrastructure, including the development of resources on related topics, across Federal agencies demonstrate the Federal Government's commitment to enhancing equity and sustainability in schools. For example, in 2022, the U.S. Department of Energy announced a new grant program focused on energy improvements at public school facilities, especially in the highest-need districts, designed to save schools money.⁹ Similarly, the White House released a toolkit on Federal resources for addressing school infrastructure needs in April 2022.¹⁰ Additionally, the Environmental Protection Agency recently released grant announcements enabled by the Bipartisan Infrastructure Law for its Voluntary School and Child Care Lead Testing and Reduction Grant Program, which allows grant funding for lead remediation and testing in K-12 schools.¹¹

⁹ https://www.energy.gov/scep/grants-energy-improvements-public-school-facilities.

¹⁰ https://www.whitehouse.gov/wp-content/uploads/2022/04/White-House-School-Infrastructure-Toolkit-04.04.22.pdf.

¹¹ https://www.epa.gov/dwcapacity/wiin-grant-voluntary-school-and-child-care-lead-testing-and-reduction-grant-program.

Additional investment in consolidating available resources and training State and LEA personnel responsible for decision-making, planning, data, budgeting, operations, accountability, and management of public school facilities is necessary to enhance their ability to access and utilize the resources available to address the infrastructure challenges facing LEAs.

To help address these challenges and build on other Federal educational infrastructure efforts, the Department will use School Safety National Activities funds to create a national clearinghouse and TA center, NCSI, that will consolidate resources on topics related to public school infrastructure improvements that support safe, healthy, sustainable, and equitable public school facilities. NCSI will also provide targeted TA to State entity grantees awarded funds under the SASI grant program and universal TA to States and LEAs on leveraging available resources to assess and make public school infrastructure improvements in their highest-need public schools.

Priority: This competition includes one absolute priority. We are establishing this priority for the FY 2023 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this absolute priority.

This priority is:

Develop a Clearinghouse of Resources and a Technical Assistance Center on School Infrastructure.

Applicants must propose to establish a national center on school infrastructure that will serve as a clearinghouse of resources for States and LEAs related to improving and developing safe, healthy, equitable, and sustainable school infrastructure, and provide TA to SASI grantees and high-need LEAs seeking to leverage available resources to improve public school facilities for all students.

Requirements: We are establishing these application and program requirements for the FY 2023 grant competition and any subsequent year in which we make awards from the list of unfunded applications from this competition, in accordance with section 437(d)(1) of GEPA, 20 U.S.C. 1232(d)(1).

Program Requirements: The grantee under this program must meet the following program requirements:

(a) Develop a service plan annually in consultation with the Department that incorporates factors identified by the Department, addresses implementation challenges faced by SASI grantees and high-need LEAs in those States, and reflects emerging needs in public school infrastructure and sustainability. The annual service plan must be an update to the grantee's 5-year plan submitted as part of its application. The annual service plan must also include, at a minimum, the following elements: capacity-building services to be delivered through both universal TA to States and LEAs and targeted TA to individual SASI grantees, key personnel, milestones, outputs, and outcome measures.

(b) Develop and implement an effective personnel management system that enables the grantee to retain and efficiently obtain the services of practitioners, researchers, policy professionals, and other consultants with direct experience with school infrastructure at the Federal, State, and local levels.

(c) Hire a project director capable of managing all aspects of the TA Center.

(d) Within 90 days of receiving funding, demonstrate substantial progress in securing any needed subcontractors to assist with carrying out the proposed services.

(e) Develop and maintain an NCSI clearinghouse website with an easy-to-navigate design that meets government or industry-recognized standards for accessibility, including 508 compliance.

(f) Gather, organize, and make available school infrastructure data to support Federal policymaking, including through national surveys.

(g) Assemble a Technical Assistance Advisory Committee consisting of subject matter experts, including State and LEA representatives, that will meet at least twice per year to work collaboratively on public school infrastructure improvement strategies and implementation practices.

(h) Consolidate and disseminate resources and best practices on public school infrastructure, including resources and best practices available across Federal agencies, as a means of providing universal TA to States and LEAs. To meet this requirement, the grantee must conduct the following activities:

(i) Consolidate and disseminate resources on topics related to public school infrastructure and sustainability, such as public school facilities planning, management, funding, and accountability; public school infrastructure improvements; tax credit or bond opportunities; regulations impacting infrastructure projects; facilities condition assessments and data management; the effects of education facilities on health, safety, equity, student achievement, and staff retention; environmental sustainability and climate resiliency; and potential cost-saving opportunities through procurement, resource efficiency, and preventative maintenance.

(ii) Facilitate national communication related to school infrastructure, sustainability, and equitable access to adequate public school facilities.

(iii) Consolidate and disseminate resources on topics uniquely impacting high-need LEAs or LEAs with demonstrated need in non-SASI States related to public school infrastructure and sustainability as needed.

(i) Utilize subject matter experts as appropriate to increase knowledge on school facilities.

(j) Develop regular (e.g., quarterly) communication and collaboration with SASI State entity grantees through mechanisms such as communities of practice or professional learning groups.

(k) Provide targeted TA to SASI State entity grantees regarding public school infrastructure and sustainability topics, which must include the following activities:

(i) Strengthen SASI State entity grantee understanding of Federal funding and tax credits available to support school infrastructure projects and financial planning and management, including the braiding of Federal, State, and local funds for school infrastructure.

(ii) Increase SASI State entity grantee knowledge regarding regulations that impact federally funded infrastructure projects (e.g., Buy America, Build America Act and the National Historic Preservation Act of 1966).¹²

¹² The Buy America, Build America Act can be found here: https://www.congress.gov/bill/117th-congress/senate-bill/1303. Information on the National Historic Preservation Act of 1966 can be found here: https://www.govinfo.gov/app/details/USCODE-2021-title16/USCODE-2021-title16-chap1A-subchapII-sec470.

(iii) Build SASI State entity grantee capacity to improve data and information management systems in order to better assess the condition of public school infrastructure in States.

(iv) Build SASI State entity grantee capacity to leverage available resources to assess and make public school infrastructure improvements.

(l) Provide other targeted TA to SASI State entity grantees and high-need LEAs regarding school infrastructure and sustainability topics, which may include the following activities:

(i) Strengthen SASI State entity grantee and high-need LEA understanding of how education facilities affect health, safety, equity, and student achievement.

(ii) Increase SASI State entity grantee and high-need LEA understanding of Federal, State, and local policies and practices related to public school facilities planning, management, funding, and accountability.

(iii) Build SASI State entity grantee and high-need LEA capacity to identify and make public school infrastructure improvements that promote environmental sustainability and climate resiliency.

(iv) Build SASI State entity grantee and high-need LEA capacity to identify cost-saving opportunities through procurement, resource efficiency, and preventative maintenance.

(v) Build SASI State entity grantee and high-need LEA capacity to braid Federal, State, or local funds to support infrastructure projects.

(vi) Support the use of built and natural environments as instructional tools and community centers (e.g., outdoor classrooms, school gardens, community charging stations, school as a learning tool, school-based health centers, or joint-use agreements).

(vii) Develop resources and best practices on topics related to school infrastructure and sustainability.

(m) Provide targeted TA related to school infrastructure and sustainability to States and LEAs with demonstrated need in non-SASI States as requested and resources permitting.

Application Requirements: In their applications, applicants must meet the following requirements.

(a) Describe how the center will implement its project services to provide TA, including a communication plan.

(b) Demonstrate expertise and experience in the following areas:

(i) School infrastructure research, data, information management systems, available resources (e.g., funding opportunities), and best practices.

(ii) Research, data, available resources, and best practices on environmentally sustainable schools.

(iii) Financial planning and management, including the braiding of Federal, State, and local funds for school infrastructure.

(iv) Research, data, and best practices on equitable resource allocation, including ensuring equitable access to adequate school facilities that enable all students to succeed academically.

(c) Describe the current research on capacity-building that will inform the applicant's capacity-building services, including how the applicant will promote self-sufficiency and longevity of State-led school improvement activities.

(d) Describe the applicant's demonstrated experience in providing training, information, and support, to States, LEAs, schools, and organizations.

(e) Present a proposed 5-year service plan. The proposed service plan must include, at a minimum, the following elements: capacity-building services to be delivered through both universal TA to States and LEAs and targeted TA to individual SASI grantees, key personnel, milestones, outputs, and outcome measures.

(f) Present a logic model informed by research or evaluation findings that demonstrates a rationale explaining how the project is likely to improve or achieve relevant and expected outcomes. The logic model must communicate how the project will achieve its expected outcomes (short-term, mid-term, and long-term) and provide a framework for both the formative and summative evaluations of the project consistent with the applicant's evaluation plan. Include a description of underlying concepts, assumptions, expectations, beliefs, and theories, as well as the relationships and linkages among these variables, and any empirical support for this framework.

(g) Present a proposed evaluation plan that describes the criteria for determining which (1) milestones were met; (2) outputs were met; (3) recipient outcomes (i.e., short-term, mid-term, long-term) were met; and (4) capacity-building services were implemented as intended.

Definitions: For FY 2023 and any subsequent year in which we make awards from the list of unfunded applications from this competition, the following definitions apply. The definitions of “demonstrates a rationale,” “logic model,” “project component,” and “relevant outcome” are from 34 CFR 77.1(c). The definitions of “local educational agency” and “State educational agency” are from section 8101 of the Elementary and Secondary Education Act of 1965, as amended (ESEA). We are establishing the definitions of “high-need LEA,” “public school facilities,” “public school infrastructure,” “public school infrastructure improvements,” “SASI State entity grantee,” “State,” and “sustainable” for the FY 2023 grant competition and any subsequent year in which we make awards from the list of unfunded applications from this competition in accordance with section 437(d)(1) of GEPA, 20 U.S.C. 1232(d)(1).

Demonstrates a rationale means a key project component included in the project's logic model is informed by research or evaluation findings that suggest the project component is likely to improve relevant outcomes.

High-need LEA will be defined by SASI applicants as a part of their application (the definition for funded SASI applicants will be finalized in consultation with the Department as part of the grant award process). The definition for funded SASI applicants must include a measure of poverty and a measure of capacity to fund school facility improvements. As applicable, SASI applicants may include in the definition secondary factors that impact the ability of an LEA or an individual school within an LEA to effectively make public school infrastructure improvements, such as the documented condition of facilities or geographic isolation of the LEA or individual schools within an LEA, or use the following definitions:

(a) Poverty: An LEA may be defined as high-need if it is among the LEAs in the State with the highest numbers or percentages of students counted as eligible under section 1124(c) of the ESEA (20 U.S.C. 6333(c)).

(b) Capacity to Fund Facilities: An LEA may be defined as high-need if it is among the LEAs in the State with the most limited capacity to raise funds for the long-term improvement of public school facilities, as determined by an assessment of—

(i) The current and historic ability of the LEA to raise funds for construction, renovation, modernization, and major repair projects for school infrastructure;

(ii) Whether the LEA has been able to issue bonds or receive other funds to support school construction projects; and

(iii) The bond rating of the LEA.

Local educational agency means a public board of education or other public authority legally constituted within a State for either administrative control or direction of, or to perform a service function for, public elementary schools or secondary schools in a city, county, township, school district, or other political subdivision of a State, or of or for a combination of school districts or counties that is recognized in a State as an administrative agency for its public elementary schools or secondary schools.

(a) Administrative Control and Direction—The term includes any other public institution or agency having administrative control and direction of a public elementary school or secondary school.

(b) Bureau of Indian Education Schools—The term includes an elementary or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any State educational agency (SEA) other than the Bureau of Indian Education.

(c) Education Service Agencies—The term includes educational service agencies and consortia of those agencies.

(d) State Educational Agency—The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Public school facilities means a building used to provide free public education, including instructional, resource, food service, and general or administrative support areas, so long as they are a part of the facility.

Public school infrastructure means school buildings, facilities, and grounds, including the built and natural outdoor environment of a public elementary school or secondary school, that are necessary for an LEA to provide a safe, healthy, sustainable, and equitable learning environment for all students.

Public school infrastructure improvements means activities related to building, acquiring, altering, remodeling, repairing, modernizing, or extending of public school facilities, including planning, design, financing, maintenance, and operations of public school infrastructure.

Relevant outcome means the student outcome(s) or other outcome(s) the key project component is designed to improve, consistent with the specific goals of the program.

SASI State entity grantee means an agency of the State other than the SEA with authority or responsibility over public school facilities.

State means each of the 50 States, the District of Columbia, the Commonwealth of Puerto Rico, and each of the outlying areas, consistent with section 8101(36) of the ESEA.

State educational agency means the agency primarily responsible for the State supervision of public elementary schools and secondary schools.

Sustainable means practices, policies, programs, and systems that do not deplete or permanently damage fiscal or environmental resources, while maintaining social well-being.

Waiver of Proposed Rulemaking: Under the Administrative Procedure Act (5 U.S.C. 553), the Department generally offers interested parties the opportunity to comment on proposed priorities, requirements, and definitions. Section 437(d)(1) of GEPA, however, allows the Secretary to exempt from rulemaking requirements regulations governing the first grant competition under a new or substantially revised program authority. This is the first grant competition for this program under section 4631(a)(1)(B) of the ESEA (20 U.S.C. 7281) and therefore qualifies for this exemption. In order to ensure timely grant awards, the Secretary has decided to forgo public comment on the priority, requirements, and definitions under section 437(d)(1) of GEPA. This priority, requirements, and definitions will apply to the FY 2023 grant competition and any subsequent year in which we make awards from the list of unfunded applications from this competition.

Program Authority: Section 4631(a)(1)(B) of the ESEA (20 U.S.C. 7281); Department of Labor, Health and Human Services, and Education, and Related Agencies Appropriations Bill, 2023, H.R. 117-403, www.congress.gov/congressional-report/117th-congress/house-report/403/1.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Cooperative agreement.

Estimated Available Funds: $2,000,000 annually.

Maximum Award: We will not make an award exceeding $2,000,000 for a single budget period of 12 months.

Estimated Number of Awards: 1.

Note: The Department is not bound by any estimates in this notice.

Project Period: Up to 60 months.

III. Eligibility Information

1. Eligible Applicants: Research organizations, institutions, agencies, or consortia of such entities, with the demonstrated ability or capacity to carry out the activities described.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

2. Submission of Proprietary Information: Given the types of projects that may be proposed in applications for the NCSI program, your application may include business information that you consider proprietary. In 34 CFR 5.11, we define “business information” and describe the process we use in determining whether any of that information is proprietary and, thus, protected from disclosure under Exemption 4 of the Freedom of Information Act (5 U.S.C. 552, as amended). Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Funding Restrictions: We reference regulations outlining funding restrictions in the Applicable Regulations section of this notice.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double-space (no more than three lines per vertical inch) all text in the application narrative.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. The maximum score for all of the selection criteria is 100 points. The maximum score for each criterion is included in parentheses following the title of the specific selection criterion.

The selection criteria are as follows:

(a) Quality of the project design (up to 30 points)

(1) The Secretary considers the quality of the design of the proposed project.

(2) In determining the quality of the design of the proposed project, the Secretary considers the following factors:

(i) The extent to which the design of the proposed project is appropriate to, and will successfully address, the needs of the target population or other identified needs (up to 10 points).

(ii) The extent to which there is a conceptual framework underlying the proposed research or demonstration activities and the quality of that framework (up to 10 points).

(iii) The extent to which performance feedback and continuous improvement are integral to the design of the proposed project (up to 10 points).

(b) Quality of project services (up to 35 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability (up to 5 points).

(3) In addition, the Secretary considers the following factors:

(i) The extent to which the services to be provided by the proposed project are appropriate to the needs of the intended recipients or beneficiaries of those services (up to 10 points).

(ii) The extent to which the services to be provided by the proposed project reflect up-to-date knowledge from research and effective practice (up to 5 points).

(iii) The extent to which the training or professional development services to be provided by the proposed project are of sufficient quality, intensity, and duration to lead to improvements in practice among the recipients of those services (up to 15 points).

(c) Quality of project personnel (up to 10 points)

(1) The Secretary considers the quality of the personnel who will carry out the proposed project.

(2) In determining the quality of project personnel, the Secretary considers the extent to which the applicant encourages applications for employment from persons who are members of groups that have traditionally been underrepresented based on race, color, national origin, gender, age, or disability (up to 5 points).

(3) In addition, the Secretary considers the qualifications, including relevant training and experience, of key project personnel (up to 5 points).

(d) Quality of the management plan (up to 20 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks (up to 5 points).

(ii) The adequacy of procedures for ensuring feedback and continuous improvement in the operation of the proposed project (up to 2 points).

(iii) The adequacy of mechanisms for ensuring high-quality products and services from the proposed project (up to 8 points).

(iv) The extent to which the time commitments of the project director and principal investigator and other key project personnel are appropriate and adequate to meet the objectives of the proposed project (up to 5 points).

(e) Quality of the project evaluation (up to 5 points)

(1) The Secretary considers the quality of the evaluation to be conducted of the proposed project.

(2) In determining the quality of the evaluation, the Secretary considers the extent to which the methods of evaluation provide for examining the effectiveness of project implementation strategies (up to 5 points).

2. Review and Selection Process: We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, and 110.23.).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General. In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purpose of Department reporting under 34 CFR 75.110, we have established the following performance measures for the NCSI program:

(a) The percentage of SASI State entity grantees and high-need LEAs reporting the following:

(1) NCSI resources were useful and applicable to their work as evidenced.

(2) The TA provided by the NCSI resulted in changes in policies or practices.

(3) Satisfaction with the quality, usefulness, and relevance of TA provided by the NCSI.

(b) The percentage of other States and LEAs reporting the following:

(1) NCSI resources were useful and applicable to their work as evidenced.

(2) The TA provided by the NCSI resulted in changes in policies or practices.

(3) Satisfaction with the quality, usefulness, and relevance of TA provided by the NCSI.

(c) The number of times that NSCI provided direct TA to the following:

(1) A SASI grantee or high-need LEA in a SASI grantee State.

(2) A non-SASI grantee State or LEA in a non-SASI grantee State seeking TA.

(c) The extent to which the NCSI provided services and products to a wide range of recipients.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-11790 Filed 6-1-23; 8:45 am]

BILLING CODE 4000-01-P